DEPARTMENT OF TRANSPORTATION

Federal Aviation Administration

Noise Exposure Map Notice; Shreveport Regional Airport; Shreveport, Louisiana

AGENCY: Federal Aviation Administration, DOT.

ACTION: Notice.

SUMMARY: The Federal Aviation Administration (FAA) announces its determination that the noise exposure maps submitted by the Shreveport Airport Authority for Shreveport Regional Airport are in compliance with applicable requirements.

DATES: Effective Date: The effective date of the FAA's determination on the noise exposure maps is March 23, 2018.

FOR FURTHER INFORMATION CONTACT: DOT/FAA Southwest Region, Tim Tandy, Environmental Protection Specialist, ASW-640D, 10101 Hillwood Parkway, Fort Worth, Texas 76177. Telephone (817) 222-5644.

SUPPLEMENTARY INFORMATION: This notice announces that the FAA finds that the noise exposure maps submitted for Shreveport Regional Airport are in compliance with applicable requirements of Part 150, effective March 23, 2018. Under 49 U.S.C. 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Federal Aviation Regulations (FAR) Part 150, promulgated pursuant to the Act, may submit a noise compatibility program for FAA approval which sets forth the measures the operator has taken or proposes to take to reduce existing non-compatible uses and prevent the introduction of additional non-compatible uses. The FAA has completed its review of the noise exposure maps and accompanying documentation submitted by Shreveport Airport Authority. The documentation that constitutes the “noise exposure maps” as defined in section 150.7 of Part 150 includes:

Chapters 2 and 3 of “14 CFR Pat 150 Noise Exposure Maps, October 2015”; Exhibit 1 (2014 Noise Exposure Map), Exhibit 2 (2020 Noise Exposure Map), Exhibit 2-1 (Shreveport Regional Airport and Immediate Environs), Exhibit 2-1 (Shreveport Regional Airport Aerial View), Exhibit 2-3 (Instrument Landing System/Localizer Approaches), Exhibit 2-4 (Area Navigation Approaches), Exhibit 3-1 (Runway 6 Arrival Flight Tracks), Exhibit 3-2 (Runway 6 Departure Flight Tracks), Exhibit 3-3 (Runway 14 Arrival Flight Tracks), Exhibit 3-4 (Runway 14 Departure Flight Tracks), Exhibit 3-5 (Runway 24 Arrival Flight Tracks), Exhibit 3-6 (Runway 24 Departure Flight Tracks), Exhibit 3-7 (Runway 32 Arrival Flight Tracks), Exhibit 3-8 (Runway 32 Departure Flight Tracks), Exhibit 3-9 (Touch and Go Flight Tracks), Exhibit 3-10 (Shreveport Regional Airport Aircraft Maintenance Runup Areas, Exhibit 3-11 (2014 Noise Exposure), Exhibit 3-12 (2020 Forecast Noise Exposure), Exhibit 3-13 (Comparison of 2004 and 2014 Noise Exposure), Exhibit 3-14 (Comparative Noise Footprints for Six Most Common Aircraft Types—2004 and 2014); Table 2-1 (Current and Recommended Optimum Runway Lengths), Table 2-2 (Summary of Historical and Forecast Passengers), Table 2-3 (Summary of Historical and Forecast Air Cargo), Table 2-4 (Historical and Forecast Aircraft Operations), Table 2-5 (Instrument Approach Procedures at Shreveport Regional Airport), Table 3-1 (Annual Aircraft Operations by Month—2014), Table 3-2 (Annual Aircraft Operations by INM Aircraft Type, User Category—2014), Table 3-3 (Calculation of Normalization Factors for Deriving Annual Operations by Aircraft Type), Table 3-4 (Aircraft Operations by Aircraft Category, Operation Type, and Time of Day—2014), Table 3-5 (Average Annual Day Aircraft Operations by INM Aircraft Type and Time of Day, Itinerant Operations—2014), Table 3-6 (Average Annual Day Aircraft Operations by INM Aircraft Type and Time of Day, Local Operations—2014), Table 3-7 (Arrival Runway Use Percentages—2014), Table 3-8 (Departure Runway Use Percentages—2014), Table 3-9 (Touch and Go Runway Use Percentages—2014), Table 3-10 (INM Departure Stage Lengths Categories), Table 3-11 (Aircraft Flight Profile Stage Length Percentages by INM Aircraft Type), Table 3-12 (Engine Maintenance Runup Data Used for Noise Modeling—2014), Table 3-13 (Annual Operations Summary—2020), Table 3-14 (Activity Percentage by Aircraft Category, Operation Type, and Time of Day—2020), Table 3-15 (Annual Aircraft Operations by Aircraft Category, Operation Type, and Time of Day—2020), Table 3-16 (Average Annual Day Aircraft Operations by INM Aircraft Type and Time of Day, Itinerant Operations—2020), Table 3-17 (Average Annual Day Aircraft Operations by INM Aircraft Type and Time of Day, Local Operations—2020), Table 3-18 (Departure Stage Length Proportions by Aircraft Category—2020), Table 3-19 (Engine Maintenance Runup Data Used for Noise Modeling—2020). The FAA has determined that these noise exposure maps and accompanying documentation are in compliance with applicable requirements. This determination is effective on March 23, 2018.

FAA's determination on an airport operator's noise exposure maps is limited to a finding that the maps were developed in accordance with the procedures contained in appendix A of FAR Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the full noise exposure map documentation and of the FAA's evaluation of the maps are available for examination at the following locations: Federal Aviation Administration, 10101 Hillwood Parkway, Fort Worth, Texas; Henry L. Thompson, Director of Airports, Shreveport Airport Authority, 5103 Hollywood Avenue, Shreveport, LA 71109. Questions may be directed to the individual named above under the heading FOR FURTHER INFORMATION CONTACT.

Issued in Fort Worth, Texas, March 23, 2018.
Ignacio Flores,
Director, Airports Division.

[FR Doc. 2018-06988 Filed 4-4-18; 8:45 am]

BILLING CODE 4910-13-P